DEPARTMENT OF TRANSPORTATION

Federal Aviation Administration

Commercial Space Transportation; Suborbital Rocket Launch

AGENCY: Federal Aviation Administration (FAA), DOT.

ACTION: Notice and request for comments; correction.

SUMMARY: This document contains two corrections to a notice and request for comments that was published in the Federal Register on Monday, October 20, 2003 (68 FR 5997). Federal Register Document 03-26373, published October 20, 2003 (68 FR 59977), clarifies the applicability of FAA licensing requirements to suborbital rocket launches, in general, and suborbital RLVs, in particular, so that a vehicle operator can determine, in advance of consultation with the FAA, whether it must obtain a launch license. This correction revises a paragraph addressing a suborbital trajectory. This action also corrects footnote 2, by adding the full FAA Docket number.

Accordingly, pursuant to the authority delegated to me, Commercial Space Transportation; Suborbital Rocket Launch, as published in the Federal Register on Monday, October 20, 2003 (68 FR 59977), (FR Doc. 03-26373) is corrected as follows:

1. On page 59979, Column 3, the third full paragraph beginning, “The FAA rulemaking regarding RLV * * *” is corrected to read as follows:

The FAA rulemaking regarding RLV missions, concluded in 2000, addressed “suborbital trajectory” in the context of RLVs. The FAA regards a suborbital trajectory as the intentional flight path of a launch vehicle, reentry vehicle, or any portion thereof, whose vacuum instantaneous impact point (IIP) does not leave the surface of the Earth. The IIP of a launch vehicle is the projected impact point on Earth where the vehicle would land if its engines stop or where vehicle debris, in the event of failure and break-up, would land. The notion of a “vacuum” IIP reflects the absence of atmospheric effects in performing the IIP calculation. If the vacuum IIP never leaves the Earth's surface, the vehicle would not achieve Earth orbit and would therefore be on a suborbital trajectory.

2. On page 59980, column 2, footnote 2, Docket No. FAA-2000, is corrected to read Docket No. FAA-2000-7953.

Issued in Washington, DC, on October 22, 2003.
Donald P. Byrne,
Assistant Chief Counsel for Regulation.

[FR Doc. 03-27023 Filed 10-22-03; 1:42 pm]

BILLING CODE 4910-13-P